POSTAL SERVICE

Product Change—Priority Mail Express, Priority Mail, and USPS Ground Advantage Negotiated Service Agreements; Priority Mail and USPS Ground Advantage Negotiated Service Agreements; Priority Mail

AGENCY: Postal Service.

ACTION: Notice.

SUMMARY: The Postal Service gives notice of filing a request with the Postal Regulatory Commission to add a domestic shipping services contract to the list of Negotiated Service Agreements in the Mail Classification Schedule's Competitive Products List.

DATES: Date of notice: October 16, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and No. | MC Docket No. | K Docket No.
09/26/25 | PME-PM-GA 1424 | MC2025-1722 | K2025-1713
09/30/25 | PM-GA 870 | MC2025-1723 | K2025-1714
09/30/25 | PM-GA 871 | MC2025-1724 | K2025-1715
09/30/25 | PME-PM-GA 1425 | MC2025-1725 | K2025-1716
09/30/25 | PM-GA 872 | MC2025-1726 | K2025-1717
09/30/25 | PME-PM-GA 1426 | MC2025-1727 | K2025-1718
09/30/25 | PM-933 | MC2025-1728 | K2025-1719
09/30/25 | PM-934 | MC2025-1730 | K2025-1721
09/30/25 | PM-GA 873 | MC2025-1729 | K2025-1720
09/30/25 | PME-PM-GA 1427 | MC2025-1731 | K2025-1722
09/30/25 | PM-GA 874 | MC2025-1733 | K2025-1724
09/30/25 | PM-GA 875 | MC2025-1734 | K2025-1725
10/01/25 | PME-PM-GA 1428 | MC2026-1 | K2026-1
10/01/25 | PM 935 | MC2026-2 | K2026-2
10/01/25 | PME-PM-GA 1429 | MC2026-3 | K2026-3
10/01/25 | PM-936 | MC2026-4 | K2026-4
10/02/25 | PME-PM-GA 1430 | MC2026-5 | K2026-5
10/02/25 | PME-PM-GA 1431 | MC2026-6 | K2026-6
10/03/25 | PME-PM-GA 1432 | MC2026-7 | K2026-7
10/03/25 | PME-PM-GA 1433 | MC2026-8 | K2026-8
10/03/25 | PME-PM-GA 1434 | MC2026-9 | K2026-9
10/06/25 | PME-PM-GA 1435 | MC2026-11 | K2026-12
10/06/25 | PME-PM-GA 1436 | MC2026-12 | K2026-13
10/07/25 | PM-GA 876 | MC2026-14 | K2026-15
10/07/25 | PME-PM-GA 1437 | MC2026-15 | K2026-16
10/08/25 | PM-GA 877 | MC2026-16 | K2026-17
10/08/25 | PME-PM-GA 1438 | MC2026-17 | K2026-18
10/09/25 | PM-GA 878 | MC2026-18 | K2026-19
10/09/25 | PM-GA 879 | MC2026-19 | K2026-20

Documents are available at www.prc.gov.

Colleen Hibbert-Kapler,
Attorney, Ethics and Legal Compliance.

[FR Doc. 2025-19567 Filed 10-15-25; 8:45 am]

BILLING CODE 7710-12-P